DEPARTMENT OF AGRICULTURE

Forest Service

Revision of the Land and Resource Management Plan for El Yunque National Forest, Puerto Rico

AGENCY: Forest Service, USDA.

ACTION: Notice of Intent to Revise the Land and Resource Management Plan and prepare an Environmental Impact Statement for El Yunque National Forest (El Yunque).

SUMMARY: As directed by the National Forest Management Act (NFMA), the U.S. Forest Service is preparing the El Yunque National Forest's revised land management plan (forest plan) and will also prepare an Environmental Impact Statement (EIS) for this revised forest plan. This notice briefly describes the nature of the decision to be made, a proposed action based on the preliminary identified need to change the existing plan, and information concerning public participation. It also provides estimated dates for filing the EIS and the name and address of the responsible agency official and the individuals who can provide additional information. Finally, this notice identifies the applicable planning rule that will be used for completing this plan revision. The revised forest plan will supersede the existing forest plan that was approved by the Regional Forester in April 1997. The existing forest plan will remain in effect until the revised forest plan takes effect.

DATES: Comments concerning the proposed action provided in this notice will be most useful in the development of the draft revised forest plan and EIS if received by November 3, 2014. The agency expects to release a draft revised forest plan and draft EIS for formal comment by May 2015 and a final revised forest plan and final EIS by February 2016.

ADDRESSES: Send written comments to El Yunque National Forest, Attn: El Yunque Plan Revision, HC 01 Box 13490, Rio Grande, PR 00745. Comments may also be sent via email to commentselyunqueplan@fs.fed.us, or via facsimile to 787-888-5685. Electronic comments should include “El Yunque Plan Revision” in the subject line. Written comments may also be delivered to: El Yunque National Forest, Headquarter's Office, PR-191 Km. 4.4, Rio Grande, PR.

FOR FURTHER INFORMATION CONTACT: Planning Team Leader Pedro Rios or Public Affairs Specialist Carolyn Krupp, El Yunque National Forest at (787) 888-1880. Information on this revision is also available on the El Yunque National Forest's Web site at http://www.fs.usda.gov/elyunque/planning. Individuals who use telecommunication devices for the deaf (TDD) may call the Federal Information Relay Service (FIRS) at (800) 877-8339. Please call 8 a.m.-noon and 1 p.m.-4:30 p.m. Eastern Time Monday through Friday, except on federal holidays.

SUPPLEMENTARY INFORMATION:

A. Lead and Cooperating Agencies

The U.S. Forest Service is the lead agency on revision of the forest plan.

B. Name and Address of the Responsible Official

The responsible official who will approve the Record of Decision is Forest Supervisor Pablo Cruz, El Yunque National Forest, HC01 Box 13490, Rio Grande, PR 00745.

C. Nature of the Decision To Be Made

The El Yunque National Forest (NF) is preparing an EIS to revise the existing forest plan. The EIS process informs the Forest Supervisor so that he can decide which alternative best meets the public's diverse needs while conserving the forests' resources as required by the NFMA and the Multiple Use Sustained Yield Act.

The revised forest plan will:

• Describe the strategic intent of managing El Yunque NF into the next 10 to 15 years and address the identified needs to change the existing land management plan. Section D of this notice provides a description of the preliminary need to change and a description of the proposed action.

• Provide management direction in the form of desired conditions, objectives, suitability determinations, standards, guidelines and a monitoring program.

• Make changes to the structure and delineation of the Management Areas described in the existing plan along with possible changes to administratively designated areas and recommendations for changes to other designations.

• Provide a description of the plan area's distinctive roles and contributions within the broader landscape.

Some decisions will not be made within the revised forest plan. The following is an example:

• The authorization of project-level activities within El Yunque NF is not a decision made in the forest plan but occurs through subsequent project specific decision-making.

D. Need for Change and Proposed Action

According to the NFMA, forest plans are to be revised on a 10 to 15 year cycle. The purpose and need for revising the current forest plan is (1) since the forest plan was approved in 1997, there have been changes in economic, social, and ecological conditions, new policies and priorities, and new information based on monitoring and scientific research; (2) a Comprehensive Evaluation Report was completed in 2007 which identified a number of recommended changes to the 1997 forest plan; (3) the findings from the Assessment have identified changes that need to be made in the forest plan; and (4) extensive public involvement has further identifed areas in the plan that need to be changed. A fully developed description of these preliminary identified need to change areas is available for review on El Yunque NF's Web site at http://www.fs.usda.gov/elyunque/planning.

A proposed action to address the preliminary identified need to change areas and to address the planning, collaborative, sustainability, social, economic, and ecological needs has been developed. At this point, the proposed action is comprised of ideas that are strategic and will provide overall guidance. It is based on the roles and contributions of El Yunque NF as well as the management challenges ahead.

The major themes that the proposed action addresses are:

• Develop a plan that introduces social and economic sustainability as part of a balanced solution to planning.

• Improve collaboration at the local level and increase co-management opportunities.

• Create an improved recreation, access, and tourism system for the forest.

• Increase environmental literacy in local communities.

• Promote a stronger regional identity in and around the forest.

• Manage for the enhancement of ecosystem services from the forest.

• Improve the roads and trails.

• Adapt planning to climate change and other changing conditions.

• Align forest management and new research opportunities.

• Revise Wilderness management direction.

• Address the management of At-Risk Species.

A fully developed description of the proposed action is also available for review on El Yunque NF's Web site at http://www.fs.usda.gov/elyunque/planning.

In the sections that follow, organized by planning and resource topic areas, a brief description of what needs to be changed is provided, along with a summary of how the proposed action would address those areas that need to be changed.

Planning Direction

There is a need to reconsider the overall management area scheme used in the 1997 Plan. There is a fundamental need for the revised plan to consider reduced Forest budgets, increased use, changing climate and diverse social conditions. There is a need to better recognize and potentially enhance the role of El Yunque NF in supporting local economies through a service-based economy focused on recreation and tourism. There is a need to include plan direction regarding potential climate change effects such as increases in storm events, flooding, and other extreme weather and to incorporate opportunities for working across boundaries to manage landscapes with adjacent land managers such as state and federal partners and other land management entities.

The Proposed Action is to: (1) Define the broader landscape as the eight municipalities surrounding the planning unit, (2) develop desired conditions that consider the broader landscape, (3) identify plan components that focus on sustainability, (4) modify the number, arrangement, and boundaries of the current plan's management areas to reduce complexity and increase flexibility, and (5) develop an integrated management strategy for NF lands within the municipalities of Ceiba, Naguabo, Las Piedras and Juncos, which recognizes the unique sub-regional landscape and social and economic conditions.

Collaborative Adaptive Management

There has been a change in the collaborative environment outside the Forest due to the establishment of new organizations and protected areas. The Proposed Action is to: (1) Shift from Forest Service driven management priorities to a more collaborative and social learning approach to management in which we work in a more cooperative manner to determine which actions should be taken, and (2) assist in the development of various participatory management activities in areas such as interpretation, recreation, economic development, conservation, restoration, research and monitoring.

Environmental Literacy and Education

There is a gap in knowledge regarding forest management among communities and the youth in particular. Closing such a gap would improve the public's capacity to participate in the forest's conservation and sustainability management. The Proposed Action is to develop management strategies that will: (1) Engage communities in forest restoration activities to sustain long-term change, and (2) consider allocation of areas dedicated for open classroom education.

Experimental Forest

Effectively managing tropical ecosystems in the face of multifaceted global change requires the understanding of ecological and social mechanisms that drive the function of forest systems. The International Institute of Tropical Forestry research continues its tradition of research with international applications based on a platform in Puerto Rico. Research focuses on understanding ecosystem dynamics in the face of global change across a gradient from wild lands to working lands to cities. A new emphasis on understanding societal and institutional interactions with the landscape will help to inform management and predict future states of tropical forests. The Proposed Action is to: (1) Revise plan components to facilitate research implementation focusing on tropical ecosystem dynamics at watershed and landscape scales, assessing effects of climate and land use change, and working lands, (2) create or revise plan components for an Air Research Site located near East Peak, and (3) integrate research needs and related standards and guidelines into the management direction for the Wilderness area.

Broader Landscape and Lands

Forested areas represent the largest portion of land cover in the region surrounding El Yunque NF, and forested cover has increased over the past several decades. Nonetheless, urban cover is increasing at a much more rapid pace, resulting in landscape fragmentation and negative effects on the Forest and other natural areas in the region. Moreover, many of the negative effects of urbanization are likely to be compounded in the context of global climate change. Plan direction should promote the maintenance of existing arrangements and the pursuit of new opportunities for land acquisition and conservation across Forest boundaries by working with adjacent and interested public and private land managers, land owners, and other stakeholders within a landscape approach. The Proposed Action is to: (1) Create a land acquisition plan that promotes conservation initiatives for stream corridors, riparian areas, and Wild & Scenic River corridors and connections to the Gran Reserva de Noreste Rivers Reserve, and (2) integrate lands programs to include conservation easements, donations, and private lands.

Social-Economic

The regional population is large, dense, and growing, albeit at a slower pace than in decades past. Per capita and family wealth in the region has increased over many decades, but only modestly outpacing inflation. Overall, poverty rates remain high among families and particularly, among children. Unemployment rates also are high, but slowly improving. Additionally, the regional population is aging, yet still maintains a significant portion that is young. The Forest Plan direction should provide a sustainable supply of goods and services to local and other populations, including the need to support community-based economic development and opportunities and to promote human health and well-being in and around the Forest. Plan direction also should update, adapt, or target the spectrum of recreation opportunities to better reflect current and projected demands and potential impacts from an aging population. Strategies should be directed to improve existing recreation opportunities and develop new services within a long-term vision. The Proposed Action is to: (1) Create recreational opportunities that consider regional population changes and new visitation patterns, and (2) design a forest plan that supports community-based economic interests and promotes human health and well-being.

Recreational Settings

Public access to different parts of the Forest beyond the high visitation corridor has been limited. Access to recreation areas needs to take into consideration carrying capacity. The Proposed Action is to: (1) Create new recreational opportunities at lower elevations, (2) use the recreational sustainability framework as a guide to developing plan components, (3) restore recreational settings that have been affected by climatic changes and inappropriate use to improve the quality of outdoor experiences, (4) resolve unmanaged recreation challenges through a planned and properly designed network of roads, trails, and facilities, (5) use educated citizen stewardship and partnerships, as well as field presence to provide quality recreation experiences, while reducing the effects of visitor use on the landscape, and (6) develop a Forest access strategy integrated with the regional elements such as tourism, recreation and existing protected areas while recognizing the opportunity to diversify access and alleviate high use on PR-191.

Recreational Operations

Visitation to the El Yunque National Forest continues to increase, creating more pressure on PR-191 Recreation Corridor. The Proposed Action is to develop plan direction that addresses recreation use capacity, which would consider elements such as hosting, parking, and quality of facilities.

Connecting Communities Through Recreation

The recreation facilities are concentrated along the corridor of PR-191 North. These areas are deep inside the forest boundary and away from local communities. The Proposed Action is to develop management strategies that will connect urban areas and rural communities to the scenic attractions, historic places, and recreation opportunities in lower elevations of the forest.

Special Recreational Places in the El Yunque National Forest

El Toro Wilderness Law was signed in 2005. There is a need to update plan direction for managing wilderness. Particular management concerns include limited use, special use permitting, and control of non-native species. The Proposed Action is to: (1) Develop plan components for the El Toro Wilderness Area that will address limiting use when necessary and the control of non-native species, and (2) develop management components that would facilitate a PR 186 Scenic Route.

Know Our Visitors, Community Stakeholders, and Other Recreation Providers

There is a need to be responsive to changing trends in regard to services, activities, and types of facilities desired by the public, but at the same time balance those with fiscal reality and environmental constraints. The trends in demographics such as the expectation of an older and more ethnically diverse population will create a need to promote outdoor physical activities among this sector of the population and among youth. The desire to support local cultures and economies should be considered in establishing a direction for recreation management on El Yunque NF. The Proposed Action is to: (1) Create a Monitoring Program that will work closely with Research to stay current on demographic changes, changing values and demands, data sources, new technologies, and management tools.

Scenic Character

Visitors are drawn to El Yunque NF for its natural scenic beauty comprised of immensely diverse vegetation, steep landforms, clear streams, and waterfalls. The Proposed Action is to develop plan components using the Scenery Management System.

Cultural Resources

Although the Forest administration has made good progress in the inspection and nomination of heritage resources, only a small number of potential candidate sites have been nominated. Maintenance of cultural assets faces a critical challenge as a consequence of reduced economic resources. The Proposed Action is to develop management strategies that will reuse historic properties potentially at: Stone House, El Yunque Peak Quarters, Baño de Oro, Baño Grande, Casa Cubuy and El Verde House.

Infrastructure

There are a variety of structures and associated utilities across El Yunque NF that are used for recreation, administration, research, maintenance, storage, and other general management purposes. There are also a high number of vacant and abandoned structures in El Yunque NF. The Proposed Action is to develop management strategies that will: (1) Plan for reducing the backlog of accrued facility deferred maintenance, particularly those items associated with health and safety, (2) match the facility inventory with current management needs, including decommissioning and disposing of those facilities which are no longer required, and (3) promote local and new business opportunities.

Economic and Ecosystem Services

Ecosystem services provided by El Yunque National Forest include: Clean water, habitat for flora and fauna, air purification, recreation, and scenic value. The Proposed Action is to integrate ecosystem services into the development of resource plan components.

Wetlands

The land above 600 meters of elevation contains the soil, vegetation and hydrological elements of a functional wetland. This is a forest condition not dealt with in the 1997 Plan. The Proposed Action is to: (1) Develop plan components that protect the current condition, and (2) identify management strategies and/or plan components to ensure functional wetlands are administered in accordance with management requirements.

Vegetation

The 1997 Plan was developed based on four forest types. There is a need to review current management areas to consider new information about the 15 vegetation types present in El Yunque NF. The Proposed Action is to: (1) Develop management direction that will protect and conserve the Riparian areas, (2) identify suitable and non-suitable lands for anthropogenic uses, and (3) identify plan components for the new vegetation types that are rare for PR and endemic to El Yunque NF.

Water

Management strategies for water quality and quantity require an integrated approach to move toward our vision for healthy watersheds. The watercourses within El Yunque NF provide many beneficial uses including recreation, fish and wildlife maintenance, in-stream flow, and water level protection. The Proposed Action is to: (1) Provide for the beneficial uses of water, (2) incorporate the Watershed Condition Framework in the plan, and (3) maintain water quality on water runoff from national forest lands.

Flora

There are an estimated total of 636 native and endemic plant species in El Yunque NF, for which their conservation status was evaluated and At-Risk Species have been identified, including eight plant species that are federally listed as endangered or threatened with extinction by the US Fish and Wildlife Service (USFWS.) The Proposed Action is to identify and address the management needs for these At-Risk species (which include the Species of Conservation Concern).

Wildlife

There are an estimated total of 166 animal species found in El Yunque NF, which include: 32 species of snails and crustaceans (invertebrate species), 134 vertebrate species and about 11 orders of insects that include multiple families. At-Risk species have been identified, including four species federally listed as endangered or threatened by the USFWS (Puerto Rican Parrot, Puerto Rican Broad-winged and Sharp-shinned hawks, and the Puerto Rican Boa. The list of potential Species of Conservation Concern includes coquis, anole lizards, bats, birds, fishes, freshwater shrimp and snails. Since the 1997 El Yunque NF Plan was developed, new and better-defined ecosystem drivers for Forest Service policy such as climate change and invasive species has brought the need to address management concerns towards the viability of “at risk” fauna species.

There is a need to provide plan direction to better control the introduction and spread of invasive species on the national forest, including direction that would minimize the spread of invasive plants that may increase as a result of management activities. There is a need to include direction for improving aquatic passage in streams where it is compromised. Direction should include restoring and expanding the range of native aquatic species and connectivity of fragmented populations.

The Proposed Action is to: (1) Modify the present Puerto Rican Parrot Management Situation Appendix since El Yunque NF is no longer the preferred habitat for the parrot, but habitat management recovery for remaining populations will continue in the broader landscape capacity through interagency collaborative effort, in compliance with the recovery plan for the Puerto Rican Parrot; (2) address the information gap of the coqui species that are identified as Species of Conservation Concern, focusing in on habitat conditions to better develop appropriate management strategies; (3) identify Wildlife Stand Improvement areas for all terrestrial vertebrate species; (4) identify aquatic passage barriers; (5) manage broader landscape needs collaboratively with partners and State agencies; (6) change from an integrated pest management strategy in the current plan to an invasive species management strategy, in compliance with the executive order; (7) control mongoose, rat, feral cat and dog populations actively in prioritized areas, and if needed, control invasive aquatic populations within the forest; and (8) update the flight restriction over the forest in compliance with the new FAA guidelines for wildlife and wilderness conservation.

E. Public Involvement

Listening sessions and a workshop focused on collaboration were conducted with the public in September and Decmber 2012 which identified public concerns and provided information about the planning process and collaboration. Between January and April 2014 four community meetings were conducted to solicit comments, opinions, data and ideas from members of the public as well as representatives of other governmental and non-governmental organizations. In May 2014 there was a forum to share information on the Plan Assessment and its key findings and to gather comments from the public. Approximatey 200 participants attended these meetings.

Comments received from the public meetings and from written electronic comments, along with information obtained from the assessment, were used to develop the preliminary need to change statements. A draft assessment was released to the public in March 2014. Comments that have already been received and any other comments relating to the assessment that may be received following the publication of this notice will be considered in completing the assessment and in describing the Affected Environment section of the EIS. It is anticipated that a completed assessment report will be posted on the forest's Web site http://www.fs.usda.gov/elyunque/planning within four months after the scoping period closes.

F. Issues and Preliminary Alternatives

Information gathered during this scoping period, as well as other information, will be used to prepare the draft EIS. At this time, El Yunque NF is seeking input on the proposed action. From these comments, the Forest Service will identify issues that will serve as a focus for developing a draft forest plan and alternatives to be analyzed in the EIS.

G. Scoping Process

Written comments received in response to this notice will be:

• Analyzed to complete the identification of the need to change the existing plan;

• Used to further develop the proposed action; and

• Used to identify potential significant issues.

Significant issues will, in turn, form the basis for developing alternatives to the proposed action. Comments on the preliminary need to change and proposed action will be most valuable if received by November 3, 2014 and should clearly articulate the reviewer's opinions and concerns. Comments received in response to this notice, including the names and addresses of those who comment, will be part of the public record. Comments submitted anonymously will be accepted and considered; however, see Section I concerning the objection process and the requirements for filing an objection. Refer to the El Yunque NF Web site at http://www.fs.usda.gov/elyunque/planning for information on when public meetings will be scheduled for refining the proposed action and identifying possible alternatives to the proposed action.

H. Applicable Planning Rule

Preparation of the revised forest plan for El Yunque NF began with the publication of a Notice of Initiation in the Federal Register on November 21, 2013 [78 FR 69814] and was initiated under the planning procedures contained in the 2012 Forest Service planning rule (36 CFR 219 (2012)).

I. Decision Will Be Subject to Objection

The decision to approve the Revised Land Management Plan for El Yunque National Forest will be subject to the objection process identified in 36 CFR 219 Subpart B (219.50 to 219.62). According to 36 CFR 219.53(a), those who may file an objection are individuals and entities who have submitted substantive formal comments related to a plan revision during the opportunities provided for public comment during the planning process.

J. Permits or Licenses Required to Implement the Proposed Action

No permits or licenses are needed for the development of a Land and Resource Management Plan.

K. Documents Available for Review

The complete preliminary need for change document, the assessment report including specialist reports, summaries of the public meetings and public meeting materials, and the El Yunque's proposed action are posted on the El Yunque NF Web site at: http://www.fs.usda.gov/elyunqque/planning. As necessary or appropriate, the material available on this site will be further adjusted as part of the planning process using the provisions of the Forest Service 2012 planning rule. (Authority: 16 U.S.C. 1600-1614; 36 CFR 219 [77 FR 21260-21273])

Dated: September 12, 2014.
Pablo Cruz,
Forest Supervisor, El Yunque National Forest.

[FR Doc. 2014-22274 Filed 9-17-14; 8:45 am]

BILLING CODE 3410-11-P